DEPARTMENT OF AGRICULTURE

Forest Service

Caribou-Targhee National Forest; Idaho; Caribou-Targhee National Forest and Curlew National Grassland Integrated Weed Management Analysis

AGENCY: Forest Service, USDA.

ACTION: Notice of intent to prepare an environmental impact statement.

SUMMARY: The Caribou-Targhee National Forest will prepare an environmental impact statement (EIS) for invasive plant management. Invasive plants are a major threat to the biological diversity and ecological integrity within and outside the Caribou-Targhee National Forest and the Curlew National Grassland (Forests). The Forests propose to implement adaptive and integrated invasive plan management on current and potential infested areas forest-wide. A clear and comprehensive integrated invasive plant management strategy would allow for the implementation of timely and effective invasive plant management and prevention projects and programs on the Forests. In the absence of an aggressive invasive plant management program, the number, density, and distribution of invasive plants on both Forests is expected to increase.

DATES: Comments concerning the scope of the analysis must be received by December 23, 2019. The draft EIS is expected in May 2020 and the final EIS is expected in November 2020.

ADDRESSES: Send written comments to Caribou-Targhee National Forest, 1405 Hollipark Drive, Idaho Falls, ID 83401. Comments may also be sent via email to FS-comments-intermtn-caribou-targhee@usda.gov or via facsimile to (208) 557-5827.

FOR FURTHER INFORMATION CONTACT: Heidi Heyrend at (208) 557-5791 or heidi.heyrend@usda.gov. Individuals who use telecommunication devices for the deaf (TDD) may call the Federal Information Relay Service (FIRS) at 1-800-877-8339 between 8 a.m. and 8 p.m., Eastern Time, Monday through Friday.

SUPPLEMENTARY INFORMATION: Invasive plants create many adverse environmental effects, including, but not limited to: Displacement of native plants; reduction in functionality of habitat for wildlife; loss of threatened, endangered, and sensitive species; increased soil erosion and reduced water quality; alteration of physical and biological properties of soil, including reduced soil productivity; changes to the intensity and frequency of fires, and loss of recreational opportunities. Within the 2.9 million acres of the Caribou-Targhee National Forest and Curlew National Grassland, less than two percent are identified as being infested with invasive, non-native, and/or state-listed noxious weeds.

These invasive plant infestations have a high potential to expand on lands within and adjacent to the Forests, degrading desired plant communities and the values provided by those communities. Forest lands are also threatened by invasive plants that have not been found on the Forests but are known to occur on adjacent lands. Infestations can be prevented, eliminated, or controlled through the use of specific management practices.

Purpose and Need for Action

The overall purpose of the proposed action is to reduce the negative effects of invasive plants on the structure and function of native plant communities and on other natural resource values. The proposal is in response to an underlying need to implement policy and direction provided at the national, regional, state, and forest levels (Executive Order 13112—Invasive Species, 2004 National Invasive Species Strategy and Implementation Plan, 2008-2012 National Invasive Species Management Plan, 2009 Intermountain Region Invasive Species Management Strategy, 2005 Idaho Strategic Plan for Managing Noxious and Invasive Weeds, and the amended Land and Resource Management Plans for the Caribou-Targhee National Forest and Curlew National Grassland).

The need for the proposed action is multifaceted. Forest resources are negatively impacted by existing and expanding invasive plant species populations. These species are known to out-compete native plants, which can result in reduced productivity and biodiversity, habitat loss, and associated economic impacts. A timely response to new infestations, new invasive plant species, and landscape scale disturbances is needed. On the Forests, landscape-level tree mortality and disturbance from insects and wildfires have increased and are likely to continue to increase the potential for invasive plant infestations.

Existing decisions for invasive plant management on the Forests do not address new species or provide priorities for managing new infestations. Updating these decisions would allow the Forests to satisfy the need to incorporate early detection and rapid response into the invasive plant management program. Invasive plant infestations already exist throughout the Forests and without management will likely increase in density and distribution. Active and adaptive integrated management is necessary to contain invasive plants within existing boundaries, reduce infestation densities, and retard the establishment of new infestations. Control efforts would be focused on infestations that can realize the greatest resource benefits—those with the highest risk of spread, those that have not become established, and those that have the best likelihood of success of control. New analysis and planning is needed to make available the most current tools and guide their best use.

Rehabilitation of degraded landscapes can inhibit the spread and establishment of invasive plants. Appropriate rehabilitation efforts are a critical component of a fully functional invasive plant management program. The goals of rehabilitating degraded areas may include preventing new infestations, preventing the reoccurrence of eradicated infestations, and/or reducing the density and spread of existing infestations. Post-fire rehabilitation efforts may incorporate one or more of the established control techniques outlined in the proposed action.

Proposed Action

The Forests propose to implement adaptive and integrated invasive plant management on current and potential infested areas forest-wide, including the Jedidiah Smith Wilderness Area and the Winegar Hole Wilderness Area. Management activities would include inventory and assessment designed to support early detection and rapid response, control methods, implementation and effectiveness monitoring, and rehabilitation.

Activities would be implemented with federal, state, and local partners where opportunities exist. Infestations outside of currently identified areas may include new sites that arise in the future, or sites that currently exist, but have not been identified in Forest inventories to date.

The proposed action includes the use of ground-based and aerial herbicide applications, manual and mechanical treatments, aquatic treatments, biological treatments, and combinations of these treatments. Proposed control methods would be based on integrated pest management principles and methods known to be effective for each target species. They include, but are not limited to, mechanical techniques, such as mowing and pulling; cultural practices, such as the use of certified noxious weed-free hay; biological control agents, such as pathogens, insects, and controlled grazing; and herbicides that target specific invasive plant species. Control methods could be employed alone or in combination. Treatment methods would be based on the extent, location, type, and character of an infestation and would be implemented using project design features. Management priority would be based on factors such as number and size of known infestations, proximity to vectors or susceptible habitat, and ability to outcompete desirable plant species. The priority of species to be treated would vary based on these factors and could change over time. These priorities would be used to guide selection of specific management activities for particular infestations.

Rehabilitation activities would be designed and implemented based on the conditions found in and around infested areas. Both active revegetation and passive revegetation (allowing plants on site to fill in a treated area) would be considered. Rehabilitation techniques would be assessed and implemented in order to promote native plant communities that are resistant to infestation by invasive plants.

Possible Alternatives

The No Action/Current Management Alternative would continue current weed management programs, treatments, and levels of effort for controlling weeds on both Forests. Because of limited ability to respond rapidly to new treatment areas and updated methods, it is anticipated that continuation of the current weed treatment program would not keep pace with the spread of weeds on both Forests. New weed invaders would continue to establish populations that would likely increase in size. Under this Alternative, it would likely not be possible to be consistent with management direction in all of the management areas on both Forests or to implement effectiveness monitoring and adaptive management as prescribed in the amended Land and Resource Management Plans.

Responsible Official

The responsible official will be the Forest Supervisor for the Caribou-Targhee National Forest and the Curlew National Grassland.

Nature of Decision To Be Made

The responsible official will decide whether or not to treat invasive plants on the Caribou-Targhee National Forest and the Curlew National Grassland, including the Jedidiah Smith Wilderness Area (123,451 acres) and the Winegar Hole Wilderness Area (10,721 acres), and if so, what methods and treatments will be used.

Permits or Licenses Required

Applicators must be licensed Idaho professional herbicide applicators per Idaho Department of Agriculture Rules Governing Pesticide Use and Application (Idaho Code § 22-3404).

Scoping Process

This notice of intent initiates the scoping process, which guides the development of the EIS. Comments that would be most useful are those concerning developing or refining the proposed action, and in particular, are site-specific concerns and those that can help us develop treatments that would be responsive to our goal to control, contain, or eradicate invasive plants. It is important that reviewers provide their comments at such times and in such manner that they are useful to the agency's preparation of the EIS. Therefore, comments should be provided prior to the close of the comment period and should clearly articulate the reviewer's concerns and contentions. Comments received in response to this solicitation, including names and addresses of those who comment, will be part of the public record for this proposed action.

The decision for this project will be subject to the objection process at 36 CFR 218 subparts A and B. Only individuals or entities who submit timely and specific written comments concerning the project during this or another designated public comment period established by the responsible official will be eligible to file on objection.

Dated: October 16, 2019.
Allen Rowley,
Associate Deputy Chief, National Forest System.

[FR Doc. 2019-24222 Filed 11-5-19; 8:45 am]

BILLING CODE 3411-15-P